DEPARTMENT OF HEALTH AND HUMAN SERVICES

Office of the Secretary

[Document Identifier: HHS-OS-0990-0001-60D]

Agency Information Collection Activities; Proposed Collection; Public Comment Request

AGENCY: Office of the Secretary, HHS.

ACTION: Notice.

SUMMARY: In compliance with section 3506(c)(2)(A) of the Paperwork Reduction Act of 1995, the Office of the Secretary (OS), Department of Health and Human Services, announces plans to submit an Information Collection Request (ICR), described below, to the Office of Management and Budget (OMB). The ICR is for extending the use of the approved information collection assigned OMB control number 0990-0001, which expires on December 31, 2016. Prior to submitting the ICR to OMB, OS seeks comments from the public regarding the burden estimate, below, or any other aspect of the ICR.

DATES: Comments on the ICR must be received on or before November 28, 2016.

ADDRESSES: Submit your comments to Information.CollectionClearance@hhs.gov or by calling (202) 690-5683.

SUPPLEMENTARY INFORMATION: When submitting comments or requesting information, please include the document identifier HHS-OS-0990-0001-60D for reference.

Information Collection Request Title: Application for waiver of the two- year foreign residence requirement of the Exchange Visitor Program.

OMB No.: 0990-0001.

Abstract: The Office of Global Affairs (OGA) requests that OMB approves an extension on a previous approved collection, OMB # 0990-0001. The HHS program deals with both research and clinical care waivers. Applicant institutions apply to this Department to request a waiver on behalf of research scientists or foreign medical graduates to work as clinicians in HHS designated health shortage areas doing primary care in medical facilities. The instructions request a copy of Form G-28 from applicant institutions represented by legal counsel outside of the applying institution. United States Department of Justice Form G-28 ascertains that legal counsel represents both the applicant organization and the exchange visitor.

Need and Proposed Use of the Information: Required as part of the application process to collect basic information such as name, address, family status, sponsor and current visa information.

Likely Respondents: Research scientists and research facilities.

Total Estimated Annualized Burden—Hours
Type of respondent | Form name | Number of respondents | Number responses per respondent | Average burden per response (in hours) | Total burden hours
Application Waiver/Supplemental A Research | HHS 426 | 45 | 1 | 10 | 450
Application Waiver/Supplemental B Clinical Care | HHS 426 | 35 | 1 | 10 | 350
Total |  |  |  |  | 800

OS specifically requests comments on (1) the necessity and utility of the proposed information collection for the proper performance of the agency's functions, (2) the accuracy of the estimated burden, (3) ways to enhance the quality, utility, and clarity of the information to be collected, and (4) the use of automated collection techniques or other forms of information technology to minimize the information collection burden.

Darius Taylor,
Information Collection Clearance Officer.

[FR Doc. 2016-23171 Filed 9-26-16; 8:45 am]

BILLING CODE 4150-38-P